DEPARTMENT OF AGRICULTURE

Animal and Plant Health Inspection Service

[Docket No. APHIS-2025-0036]

Request for Approval of a New Information Collection; Animal and Animal Product Movement and Import Permits

AGENCY: Animal and Plant Health Inspection Service, USDA.

ACTION: Request for approval of a new information collection; comment request.

SUMMARY: In accordance with the Paperwork Reduction Act of 1995, this notice announces the Animal and Plant Health Inspection Service's intention to request approval of a new information collection associated with requesting and issuing permits for movement and importation of live animals and animal products.

DATES: We will consider all comments that we receive on or before November 25, 2025.

ADDRESSES: You may submit comments by either of the following methods.

• Federal eRulemaking Portal: Go to www.regulations.gov. Enter APHIS-2025-0036 in the Search field. Select the Documents tab, then select the Comment button in the list of documents.

• Postal Mail/Commercial Delivery: Send your comment to Docket No. APHIS-2025-0036, Regulatory Analysis and Development, PPD, APHIS, 5601 Sunnyside Ave., #AP760, Beltsville, MD 20705.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information regarding livestock disease surveillance programs, contact Dr. Vivek Kamath, Import/Export Systems Analyst, Veterinary Services, 1400 Independence Ave. SW, Room 2410, Washington, DC 20250; (301) 851-3325. For more information on the information collection reporting process, contact Ms. Sheniqua Harris, APHIS' Paperwork Reduction Act Coordinator, at (301) 851-2528 or email: APHIS.PRA@usda.gov.

SUPPLEMENTARY INFORMATION:

Title: Permits; Movement and Importation of Animals and Animal Product.

OMB Control Number: 0579-00XX.

Type of Request: New information collection.

Abstract: The Animal Health Protection Act (7 U.S.C. 8301 et seq.) provides the Secretary of Agriculture broad authority to prohibit or restrict, through orders and regulations, the importation or entry and interstate movement of any animal, article, or means of conveyance if the U.S. Department of Agriculture (USDA) determines that the prohibition or restriction is necessary to prevent the introduction or spread of any pest or disease of livestock within the United States.

Disease prevention is the most effective method for maintaining a healthy animal population and for enhancing the United States' ability to globally compete in the trade of animals and animal products. APHIS' Veterinary Services program is responsible for carrying out this disease prevention mission. In connection with this mission, APHIS regulations contain requirements for live animal and animal product permits. APHIS regulations governing the interstate movement of animals to prevent the dissemination of animal diseases within the United States are contained in Title 9 of the Code of Federal Regulations, Chapter 1, Subchapter C. APHIS regulations governing import and export are in 9 CFR parts 91 through 96.

APHIS uses permitting activities to manage animal movement both domestically and internationally to prevent, control, and eradicate disease. Information collected across permitting activities includes the type (species, sex, and identification) and number of animals moving, the purpose of movement, contact information for the shipper and recipient, import permit numbers, identification and seal information of any transport vehicles, documentation of cleaning and disinfection of conveyance if required, description of material transported, if not live animals; quantity and frequency of import; proposed use of the material in the United States; treatment of the material prior to import into the United States; and method of final disposition of the material.

We are asking the Office of Management and Budget (OMB) to approve our use of these information collection activities, as described, for 3 years.

The purpose of this notice is to solicit comments from the public (as well as affected agencies) concerning our information collection. APHIS needs this outside input to help accomplish the following:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond (such as through the use of appropriate automated, electronic, mechanical, or other technological collection techniques, e.g., permitting electronic submission of responses.)

Estimate of burden: The public burden for this collection of information is estimated to average .209 hours per response.

Respondents: State veterinarians and accredited veterinarians, herd owners, importers and exporters, research and academic facilities.

Estimated annual number of respondents: 12,838.

Estimated annual number of responses per respondent: 31.

Estimated annual number of responses: 402,674.

Estimated total annual burden on respondents: 84,286 hours. (Due to averaging, the total annual burden hours may not equal the product of the annual number of responses multiplied by the reporting burden per response.)

All responses to this notice will be summarized and included in the request for OMB approval. All comments will also become a matter of public record.

Done in Washington, DC, this 19th day of September 2025.
Michael Watson,
Administrator, Animal and Plant Health Inspection Service.

[FR Doc. 2025-18743 Filed 9-25-25; 8:45 am]

BILLING CODE 3410-34-P